FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 015131N.

Name: Formosa International Freight Forwarder, Inc.

Address: 20 West Lincoln Ave., Ste. 302, Valley Stream, NY 11580.

Date Revoked: August 31, 2009.

Reason: Failed to maintain a valid bond.

License Number: 021493NF.

Name: Global Express Consolidators, Inc.

Address: 2775 W. Okeechobee Rd., #146, Hialeah, FL 33010.

Date Revoked: September 4, 2009.

Reason: Failed to maintain valid bonds.

License Number: 019460NF.

Name: USCA Forwarding-Seabell Express Inc.

Address: 50 Harrison Street, Ste. 305, Hoboken, NJ 07030.

Date Revoked: August 27, 2009.

Reason: Failed to maintain valid bonds.

Sandra L. Kusumoto,
Director, Bureau of Certification and Licensing.

[FR Doc. E9-22984 Filed 9-22-09; 8:45 am]

BILLING CODE 6730-01-P